DEPARTMENT OF JUSTICE

Notice of Lodging Proposed Consent Decree

In accordance with Departmental Policy, 28 CFR 50.7, notice is hereby given that a proposed Consent Decree in United States of America v. Richard D. Kor, Wesley D. Kor, and KOR Ethanol, Inc., Case No. 10-4086, was lodged with the United States District Court for the District of South Dakota, Southern Division, on April 28, 2011.

This proposed Consent Decree concerns a complaint filed by the United States against Richard D. Kor, Wesley D. Kor, and Kor Ethanol, Inc., pursuant to Sections 301, 309, 311 and 404 of the Clean Water Act, 33 U.S.C. 1311, 1319, 1321 and 1344, to obtain injunctive relief from and impose civil penalties against the Defendants for violating the Clean Water Act by, among other things, discharging pollutants without a permit into waters of the United States. The proposed Consent Decree resolves these allegations by requiring the Defendants to restore the impacted areas and perform mitigation and to pay a civil penalty.

The Department of Justice will accept written comments relating to this proposed Consent Decree for thirty (30) days from the date of publication of this Notice. Please address comments to David A. Carson, United States Department of Justice, Environment and Natural Resources Division, 999 18th Street, South Terrace, Suite 370, Denver, Colorado 80202, and refer to United States v. Richard D. Kor, et al., DJ # 90-5-1-1-17529.

The proposed Consent Decree may be examined at the Clerk's Office, United States District Court for the District of South Dakota, Southern Division, 400 S. Phillips Avenue, Sioux Falls, South Dakota 57104. In addition, the proposed Consent Decree may be viewed at http://www.usdoj.gov/enrd/Consent_Decrees.html.

Cherie L. Rogers,
Assistant Section Chief, Environmental Defense Section, Environment & Natural Resources Division.

[FR Doc. 2011-10989 Filed 5-4-11; 8:45 am]

BILLING CODE P